DEPARTMENT OF ENERGY

Federal Energy Regulatory Commission

[Docket No. EL15-53-000]

California Independent System Operator Corporation; Notice of Institution of Section 206 Proceeding and Refund Effective Date

On March 16, 2015, the Commission issued an order in Docket No. EL15-53-000, pursuant to section 206 of the Federal Power Act (FPA), 16 U.S.C. 824e (2012), instituting an investigation to determine the justness and reasonableness of the Energy Imbalance Market provisions in the California Independent System Operator Corporation's existing tariff related to the imbalance energy price spikes in PacifiCorp's balancing authority areas. California Independent System Operator Corporation, 150 FERC ¶ 61,191 (2015).

The refund effective date in Docket No. EL15-53-000, established pursuant to section 206(b) of the FPA, will be 90 days from the date of publication of this notice in the Federal Register.

Dated: March 17, 2015.
Kimberly D. Bose,
Secretary.

[FR Doc. 2015-06630 Filed 3-23-15; 8:45 am]

BILLING CODE 6717-01-P